DEPARTMENT OF HEALTH AND HUMAN SERVICES

Centers for Disease Control and Prevention

Advisory Committee to the Director (ACD), Centers for Disease Control and Prevention (CDC)

In accordance with section 10(a)(2) of the Federal Advisory Committee Act (Pub. L. 92-463), the CDC announces the following meeting of the aforementioned committee.

Time and Date: 8:30 a.m.-3 p.m. (EDT), April 26, 2012.

Place: CDC, 1600 Clifton Road NE., Building 21, Rooms 1204 A/B, Atlanta, Georgia 30333. This meeting is also available by teleconference. Please dial (877) 930-8819 and enter code 1579739.

Status: Open to the public, limited only by the space available. The meeting room accommodates approximately 50 people. To accommodate public participation in the meeting, a conference telephone line will be available. The public is welcome to participate during the public comment period. The public comment period is tentatively scheduled from 2:45 p.m. until 2:50 p.m.

Purpose: The committee will provide advice to the CDC Director on strategic and other broad issues facing CDC.

Matters To Be Discussed: The Advisory Committee to the Director will receive updates from the Global Workgroup; State, Tribal, Local and Territorial Workgroup; the Policy Workgroup; the Communications Workgroup; the Ethics Subcommittee, and the Health Disparities Subcommittee, as well as an update from the CDC Director.

Agenda items are subject to change as priorities dictate.

Contact Person for More Information: Carmen Villar, MSW, Designated Federal Officer, Advisory Committee to the Director, CDC, 1600 Clifton Road NE., M/S D-14, Atlanta, Georgia 30333, telephone 404/639-7000, email: GHickman@cdc.gov. The deadline for notification of attendance is April 20, 2012. To register for this meeting, please send an email to ACDirector@cdc.gov. The Director, Management Analysis and Services Office, has been delegated the authority to sign Federal Register notices pertaining to announcements of meetings and other committee management activities, for both the Centers for Disease Control and Prevention and the Agency for Toxic Substances and Disease Registry.

Dated: March 23, 2012.
Elizabeth Millington,
Acting Director, Management Analysis and Services Office, Centers for Disease Control and Prevention.

[FR Doc. 2012-7551 Filed 3-28-12; 8:45 am]

BILLING CODE 4163-18-P